NUCLEAR REGULATORY COMMISSION

10 CFR Part 54

[Docket No. PRM-54-4]

Friends United for Sustainable Energy; Denial of Petition for Rulemaking

AGENCY: Nuclear Regulatory Commission.

ACTION: Denial of petition for rulemaking.

SUMMARY: The Nuclear Regulatory Commission (NRC) is denying a petition for rulemaking (PRM-54-4) submitted by Susan Shapiro, Esquire, Friends United for Sustainable Energy. The petitioner requested that the NRC issue an order to enjoin the NRC from considering any new license applications until the NRC can amend its regulations so that the regulations do not suppress and/or eliminate a stakeholder's right to redress, due process and equal protection in the licensing renewal process. A notice of receipt of this petition was not published in the Federal Register.

ADDRESSES: For a copy of the petition, write to Michael T. Lesar, Chief, Rulemaking, Directives, and Editing Branch, Division of Administrative Services, Office of Administration, U.S. Nuclear Regulatory Commission, Washington, DC 20555-0001.

Publicly available documents related to this petition may be viewed electronically on public computers in the NRC's public document Room (PDR), O-1 F21, One White Flint North, 11555 Rockville Pike, Rockville, Maryland. The PDR reproduction contractor will copy documents for a fee.

Publicly available documents created or received at the NRC after November 1, 1999, are also available electronically at the NRC's Electronic Reading Room at http://www.nrc.gov/NRC/ADAMS/index.html. From this site, the public can gain entry into the NRC's Agencywide document Access and Management System (ADAMS), which provides text and image files of NRC's public documents. If you do not have access to ADAMS or if there are problems in accessing the documents located in ADAMS contact the NRC's PDR Reference staff at 1-800-397-4209, 301-415-4737, or by e-mail to pdr@nrc.gov.

FOR FURTHER INFORMATION CONTACT: Michael T. Lesar, Chief, Rulemaking, Directives, and Editing Branch, Division of Administrative Services, Office of Administration, U.S. Nuclear Regulatory Commission, Washington, DC 20555-0001, Telephone: 301-415-7163, or toll free: 800-368-5642, e-mail MTL@nrc.gov.

SUPPLEMENTARY INFORMATION:

The Petition

The petitioner requested that the NRC issue an order to enjoin the NRC from considering any new license applications until the NRC can amend its regulations so that the regulations do not suppress and/or eliminate a stakeholder's right to redress, due process and equal protection in the licensing renewal process.

Reasons for Denial

The NRC is denying this petition because the petitioner does not provide any new information that was not previously considered by the NRC in denying the petitions submitted by County Executive Andrew Spano of Westchester County, New York in PRM-54-2 and Mayor Joseph Scarpelli of Brick Township, New Jersey in PRM-54-3 (December 13, 2006; 72 FR 74848). These petitions were denied because they raised issues: (1) That the Commission already considered at length in developing the license renewal rule (December 13, 1991; 56 FR 64943); (2) that are managed by the ongoing regulatory process or under other regulations; or (3) that are beyond the Commission's regulatory authority.

The petitioner did not present any new information that contradicts positions taken by the Commission when the December 13, 1991, regulation was established or demonstrates that sufficient reason exists to modify the current regulations.

For the reasons cited in this document, the NRC denies this petition.

Dated at Rockville, Maryland, this 29th day of October 2007.
For the Nuclear Regulatory Commission.
Luis A. Reyes,
Executive Director for Operations.

[FR Doc. E7-21928 Filed 11-7-07; 8:45 am]

BILLING CODE 7590-01-P